ENVIRONMENTAL PROTECTION AGENCY

40 CFR Part 300

[EPA-HQ-SFUND-1983-0002; FRL-9213-9]

National Oil and Hazardous Substances Pollution Contingency Plan; National Priorities List: Partial Deletion of the Denver Radium Superfund Site

AGENCY: Environmental Protection Agency.

ACTION: Proposed rule, extension of public comment period.

SUMMARY: The Environmental Protection Agency (EPA) Region 8 issued a Notice of Intent to Delete portions of the Denver Radium Superfund Site from the National Priorities List (NPL) on September 9, 2010 (75 FR 54779). The portions proposed for deletion are each of the 11 operable units at the Denver Radium Site, located in the City and County of Denver, Colorado. Groundwater contamination associated with Operable Unit 8 will remain on the NPL. To ensure that everyone has an opportunity to comment, EPA is extending the public comment period through November 1, 2010.

The NPL, promulgated pursuant to section 105 of the Comprehensive Environmental Response, Compensation, and Liability Act (CERCLA) of 1980, as amended, is an appendix of the National Oil and Hazardous Substances Pollution Contingency Plan (NCP). The EPA and the State of Colorado, through the Colorado Department of Public Health and Environment (CDPHE), have determined that all appropriate response actions under CERCLA, other than operation, maintenance and five-year reviews have been completed.

This rationale for deleting the 11 operable units of the Denver Radium Superfund Site has not changed. The Federal Register notice for the proposed deletion (75 FR 54779) discusses this rationale in detail.

DATES: Comments concerning the proposed partial deletion may be submitted to EPA on or before November 5, 2010.

ADDRESSES: Submit your comments, identified by Docket ID No. EPA-HQ-SFUND-1983-0002, by one of the following methods:

• http://www.regulations.gov: Follow the on-line instructions for submitting comments.

• E-mail: dalton.john@epa.gov.

• Fax: 303-312-7110.

• Mail: Mr. John Dalton, Community Involvement Coordinator (8OC), U.S. EPA, Region 8, 1595 Wynkoop Street, Denver, Colorado 80202-1129.

• Hand Delivery: 1595 Wynkoop Street, Denver, Colorado 80202-1129. Such deliveries are only accepted during the Docket's normal hours of operation, and special arrangements should be made for deliveries of boxed information.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at:

—EPA's Region 8 Superfund Records Center, 1595 Wynkoop Street, Denver, Colorado 80202-2466. Hours: 8 a.m. to 4 p.m. by appointment (call 303-312-6473), Monday through Friday, excluding legal holidays; and the

—Colorado Department of Public Health and Environment, 4300 Cherry Creek Drive South, Denver, CO 80246 Hours: M-F, 8 a.m. to 5 p.m.

FOR FURTHER INFORMATION CONTACT: Mr. John Dalton, Community Involvement Coordinator (8OC), U.S. Environmental Protection Agency, Region 8, 1595 Wynkoop Street, Denver, Colorado 80202-1129; telephone number: 1-800-227-8917 or 303-312-6633; fax number: 303-312-7110; e-mail address: dalton.john.@epa.gov.

Dated: October 7, 2010.
James B. Martin,
Regional Administrator, Region 8.

[FR Doc. 2010-25902 Filed 10-13-10; 8:45 am]

BILLING CODE 6560-50-P